DEPARTMENT OF LABOR

Employment and Training Administration

[TA-W-62,049]

Liberty Fibers Corporation; Lowland, TN; Notice of Termination of Investigation

Pursuant to Section 221 of the Trade Act of 1974, as amended, an investigation was initiated on August 27, 2007 in response to a petition filed by a company official on behalf of workers of Liberty Fibers Corporation, Lowland, Tennessee.

The petitioner has requested that the petition be withdrawn. Consequently, the investigation under this petition has been terminated.

Signed at Washington, DC, this 4th day of September, 2007.
Elliott S. Kushner,
Certifying Officer, Division of Trade Adjustment Assistance.

[FR Doc. E7-17889 Filed 9-10-07; 8:45 am]

BILLING CODE 4510-FN-P